INTERNATIONAL TRADE COMMISSION

[Investigation No. 337-TA-1444]

Certain Nasal Devices and Components Thereof; Notice of Institution of Investigation

AGENCY: U.S. International Trade Commission.

ACTION: Notice.

SUMMARY: Notice is hereby given that a complaint was filed with the U.S. International Trade Commission on February 18, 2025, under section 337 of the Tariff Act of 1930, as amended, on behalf of Aardvark Medical Inc. of Denton, Texas. A supplement was filed on February 25, 2025. The complaint, as supplemented, alleges violations of section 337 based upon the importation into the United States, the sale for importation, and the sale within the United States after importation of certain nasal devices and components thereof by reason of the infringement of certain claims of U.S. Patent No. 9,750,856 (“the '856 patent”); U.S. Patent No. 11,318,234 (“the '234 patent”); U.S. Patent No. 11,883,009 (“the '009 patent”); U.S. Patent No. 11,883,010 (“the '010 patent”); and U.S. Patent No. 11,889,995 (“the '995 patent”). The complaint, as supplemented, further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on March 20, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-5, 7-14, and 16-19 of the '856 patent; claims 1-4, 6, 8-12, 14-17, 21-24, 27, and 28 of the '234 patent; 1-3, 6-8, 10-12, 16-18, 21, 22, and 28 of the '009 patent; claims 1-8, 10-15, and 17-22 of the '010 patent; and claims 1-9, 12-21, 23, 24, and 26 of the '995 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “nasal irrigation and aspiration devices and components thereof”; ¹

¹ In this plain English statement of the scope of investigation, “components thereof” is included pursuant to the allegations in the complaint. To the extent that the Complainant has included such an allegation based upon a concern regarding specific components, the Complainant should, during the course of this investigation, seek adjudication and specifically identify the components of the claimed invention sought for exclusion. The lack of adjudication of specific components, however, would not affect any later ability to adjudicate and remedy circumvention through the importation of components with additional enforcement actions.

(3) For the purpose of the investigation so instituted, the following are hereby named as parties upon which this notice of investigation shall be served:

The complainant is:

Aardvark Medical Inc., 204 Cardinal Drive, Denton, Texas 76209

(b) The respondents are the following entities alleged to be in violation of section 337, and are the parties upon which the complaint is to be served:

Xiamenximier Electronic Commerce Co., Ltd (d/b/a Cenny), Room 203, Building 1070-2, Caitangshe, Huli District, Xiamen City, Fujian China 361000

Xia Men Deng Jia E-Commerce Co., Ltd., (d/b/a Ronfnea), Room 101, No. 1070-1, Caitangshe, Xiamen, Huli District, Fujian, China 361006, Chongqing Moffy Innovation Technology, Co., Ltd., No. 292, Jingdongfang Rd., Beibei Dist., Chongqing City, 400714 China

Guangdong XINRUNTAO Technology, Co., Ltd., Room 1101-1102, Xingji Tower, Xinqiao, Bao'an Shenzhen, Guangdong, China

Shenzhen Jun&Liang Media Tech Limited, Building 16, Dongcai Industrial Park, Gushu Village, Xixiang Town, Bao'an District, Shenzhen, China 518102

RhinoSystems, Inc., 1 American Road, Suite 1100, Brooklyn, Ohio 44144

Spa Sciences LP, 584 NW University Blvd., Suite 600, Port St. Lucie, Florida 34986

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 21, 2025.
Sharon Bellamy,
Supervisory Hearings and Information Officer.

[FR Doc. 2025-05116 Filed 3-25-25; 8:45 am]

BILLING CODE 7020-02-P